DEPARTMENT OF COMMERCE

Technology Administration

Office of Technology Policy; National Medal of Technology Nomination Evaluation Committee; Notice of Determination for Closure of Meeting

The National Medal of Technology Nomination Evaluation Committee has scheduled a meeting for May 22, 2000.

The Committee was established to assist the Department in executing its responsibility under 15 U.S.C. 3711. Under the provision, the Secretary is responsible for recommending to the President prospective recipients of the National Medal of Technology. The committee's recommendations are made after reviewing all nominations received in response to a public solicitation. The Committee is chartered to have twelve members.

Time and Place: The meeting will begin at 9 a.m. and end at 4 p.m. on May 22, 2000. The meeting will be held in Room 4807 at the U.S. Department of Commerce, 1401 Constitution Avenue, N.W., Washington, D.C. 20230. For further information contact: S.J. Dapkunas, Acting Director National Medal of Technology, U.S. Department of Commerce, 1401 Constitution Avenue, N.W., Herbert C. Hoover Building, Room 4226, Washington, D.C. 20230, Phone: 202-482-1424.

If a member of the public would like to submit written comments concerning the committee's affairs at any time before and after the meeting, written comments should be addressed to the Acting Director of the National Medal of Technology as indicated above.

SUPPLEMENTARY INFORMATION: The Assistant Secretary for Administration, with the concurrence of the General Counsel, have formally determined, pursuant to Section 10(d) of the Federal Advisory Committee Act, 5 U.S.C. app. 2, as amended, that this meeting may be properly closed because it is concerned with matters that are within the purview of 5 U.S.C. 522(c)(9)(b). Specifically, it was determined that the meeting may be closed to the public because revealing information about Medal candidates would be likely to significantly frustrate implementation of a proposed agency action. A copy of the determination is available for public inspection in the Central Reference and Records Inspection Facility, Room 6219, Main Commerce.

In particular, the meeting will be closed to discuss the relative merits of persons and companies nominated for the Medal. Public disclosure of this information would be likely to significantly frustrate implementation of the National Medal of Technology program because premature publicity about candidates under consideration for the Medal, who may or may not ultimately receive the award, would be likely to discourage nominations for the Medal.

Due to closure of the meeting, copies of the minutes of the meeting will not be available, however a copy of the Notice of Determination will be available for public inspection and copying in the office of S.J. Dapkunas, Acting Director, National Medal of Technology, 1401 Constitution Avenue, N.W., Herbert Hoover Building, Room 4226, Washington, D.C. 20230, (Phone: 202-482-1424).

Kelly H. Carnes,
Assistant Secretary for Technology Policy.

[FR Doc. 00-11643 Filed 5-9-00; 8:45 am]

BILLING CODE 3510-18-M